INTERNATIONAL TRADE COMMISSION

[Investigation No. 332-467]

Advice Concerning Possible Modifications to the U.S. Generalized System of Preferences, 2004 Special Review

AGENCY: International Trade Commission.

ACTION: Institution of investigation and request for public comment

SUMMARY: Following receipt on April 1, 2005 of a request from the United States Trade Representative (USTR) under section 332(g) of the Tariff Act of 1930 (19 U.S.C. 1332(g)), the Commission instituted investigation No. 332-467, Advice Concerning Possible Modifications to the U.S. Generalized System of Preferences, 2004 Special Review.

Background: As requested by the USTR, under section 332(g) of the Tariff Act of 1930 and in accordance with section 503(d)(1)(A) of the Trade Act of 1974 (19 U.S.C. 2463(d)(1)(A)), the Commission will provide advice on whether any industry in the United States is likely to be adversely affected by a waiver of the competitive need limits specified in section 503(c)(2)(A) of the 1974 Act for Indonesia for HTS subheadings 4412.13.40, and 9001.30.00; and for Thailand for HTS subheadings 7113.11.50 and 9009.12.00.

With respect to the competitive need limit in section 503(c)(2)(A)(i)(I) of the 1974 Act, the Commission, as requested, will use the dollar value limit of $115,000,000.

As requested by the USTR, the Commission will seek to provide its advice not later than May 31, 2005.

DATES: Effective Date: April 6, 2005.

FOR FURTHER INFORMATION CONTACT: Project Leader, Cynthia B. Foreso (202-205-3348 or cynthia.foreso@usitc.gov).

The above person is in the Commission's Office of Industries. For information on legal aspects of the investigation, contact William Gearhart of the Commission's Office of the General Counsel at 202-205-3091 or william.gearhart@usitc.gov.

Written Submissions: The Commission does not plan to hold a public hearing in this investigation. However, interested parties are invited to submit written statements or briefs concerning this investigation. All written submissions, statements, and briefs, should be addressed to the Secretary, United States International Trade Commission, 500 E Street SW., Washington, DC 20436, and should be filed not later than 5:15 p.m., May 6, 2005. All written submissions must conform with the provisions of section 201.8 of the Commission's Rules of Practice and Procedure (19 CFR 201.8). Section 201.8 of the rules requires that a signed original (or a copy designated as an original) and fourteen (14) copies of each document be filed. In the event that confidential treatment of the document is requested, at least four (4) additional copies must be filed, in which the confidential information must be deleted (see the following paragraph for further information regarding confidential business information). The Commission's rules do not authorize filing submissions with the Secretary by facsimile or electronic means, except to the extent permitted by section 201.8 of the rules (see Handbook for Electronic Filing Procedures, ftp://ftp.usitc.gov/pub/reports/electronic_filing_handbook.pdf).

Any submissions that contain confidential business information must also conform with the requirements of section 201.6 of the Commission's Rules of Practice and Procedure (19 CFR 201.6). Section 201.6 of the rules requires that the cover of the document and the individual pages be clearly marked as to whether they are the “confidential” or “nonconfidential” version, and that the confidential business information be clearly identified by means of brackets. All written submissions, except for confidential business information, will be made available in the Office of the Secretary to the Commission for inspection by interested parties.

The Commission may include some or all of the confidential business information submitted in the course of these investigations in the report it sends to the USTR and the President. As requested by the USTR, the Commission will publish a public version of the report. However, in the public version, the Commission will not publish confidential business information in a manner that would reveal the operations of the firm supplying the information.

Persons with mobility impairments who will need special assistance in gaining access to the Commission should contact the Secretary at 202-205-2000.

Issued: April 7, 2005.
By order of the Commission.
Marilyn R. Abbott,
Secretary to the Commission.

[FR Doc. 05-7299 Filed 4-11-05; 8:45 am]

BILLING CODE 7020-02-P